DEPARTMENT OF THE INTERIOR

National Park Service

Avalanche Hazard Reduction by Burlington Northern Santa Fe Railway in Glacier National Park and Flathead National Forest, MT Final Environmental Impact Statement, Record of Decision, Glacier National Park, MT

AGENCY: National Park Service, Department of the Interior.

ACTION: Notice of Availability of a Record of Decision on the Final Environmental Impact Statement for the Avalanche Hazard Reduction by Burlington Northern Santa Fe Railway in Glacier National Park and Flathead National Forest, Glacier National Park.

SUMMARY: Pursuant to the National Environmental Policy Act of 1969, 42 U.S.C. 4332(2)(C), the National Park Service announces the availability of the Record of Decision for the Avalanche Hazard Reduction by Burlington Northern Santa Fe Railway (BNSF) in Glacier National Park (GNP) and Flathead National Forest, Montana, Final Environmental Impact Statement. On September 12, 2008, the Regional Director, Intermountain Region approved the Record of Decision. As soon as practicable, the National Park Service will begin to implement the Preferred Alternative contained in the FEIS issued on August 2, 2008. Four alternatives were analyzed and Alternative B was identified as the preferred which will include the following actions: GNP will issue a special use permit to BNSF for non-explosive snow stability testing, installation of a weather station and other avalanche forecasting equipment and detection devices in the Middle Fork area within the park. All installations will be painted to blend in and reduce their visibility. GNP will not permit the use of explosives for avalanche hazard reduction within the park except during emergency extenuating circumstances after all other options, including railroad delays, have been exercised. GNP recommends that BNSF build snowsheds in areas of the John Stevens Canyon that currently do not have them. GNP also recommends that BNSF lengthen existing snowsheds that do not provide sufficient protection from avalanche activity. In the event that BNSF constructs snowsheds, GNP recommends that wildlife crossings be incorporated into the structures where appropriate. Wildlife specialists from GNP, FNF and the USFWS will work closely with BNSF to assist with this effort. GNP also recommends that BNSF design historically compatible extensions on the existing historic snowsheds. Cultural Resource Specialists from both GNP and FNF will assist with this effort. Other alternatives analyzed were: (1) No Action—BNSF would continue to use avalanche forecasting, travel restrictions, and delays to protect employees, freight, equipment and Amtrak passengers; (2) Alternative C-GNP would permit explosive use for up to ten years for avalanche hazard reduction after a commitment from BNSF to build snowsheds and fund a 15 year resource monitoring program; and (3) Alternative D-GNP would permit BNSF to conduct a permanent explosive avalanche hazard reduction program using military artillery in the park. Construction of less than one mile of snowsheds offers the best avalanche protection for Amtrak passengers, BNSF employees, equipment, and freight. Explosive avalanche hazard reduction is an inappropriate use of park lands and may have unacceptable impacts on park resources and values, as defined in the 2006 NPS Management Policies. GNP along with Waterton Lakes National Park is the world's first International Peace Park, an International Biosphere Reserve, and a World Heritage Site. Three comments were received on the Final EIS supporting the preferred alternative. Over 13,000 comments were received on the Draft EIS in addition to 1,100 comments received during scoping.

The public as well as other agencies and tribes were overwhelmingly in support of the preferred alternative. The Record of Decision includes a description of the decision, key actions and mitigation measures, a synopsis of other alternatives considered, the basis for the decision, findings on impairment, unacceptable impacts and appropriate use of park resources and values, a description of the environmentally preferable alternative, and an overview of public and agency involvement in the decision-making process.

FOR FURTHER INFORMATION CONTACT: Mary Riddle, Glacier National Park, West Glacier, Montana 59936, mary_riddle@nps.gov.

SUPPLEMENTARY INFORMATION: Copies of the Record of Decision may be obtained from the contact listed above or online at http://parkplanning.nps.gov/glac.

Dated: October 24, 2008.
Anthony J. Schetzsle,
Deputy Director, Intermountain Region, National Park Service.

[FR Doc. E8-26122 Filed 10-31-08; 8:45 am]

BILLING CODE 4310-94-P